NATIONAL COUNCIL ON DISABILITY

Sunshine Act Meetings

TIME AND DATES: The Members of the National Council on Disability (NCD) will hold a quarterly meeting on Thursday, February 11, 2016, 9:00 a.m.-4:30 p.m. (Eastern Daylight Time), and on Friday, February 12, 2016, 8:30 a.m.-12:15 p.m. (Eastern Daylight Time) in Celebration, Florida.

PLACE: This meeting will occur at the Florida Hospital Nicholson Center, Education Center 2, 404 Celebration, Florida 34747. Interested parties are welcome to join in person or by phone in a listening-only capacity (other than the period allotted for public comment noted below) using the following call-in number: 888-505-4369; Conference ID: 382979; Conference Title: NCD Meeting; Host Name: Clyde Terry.

MATTERS TO BE CONSIDERED: The Council will hear policy presentations on the topics of mental health services in higher education; guardianship; updates since the release of NCD's “Breaking the School to Prison Pipeline” report last fall; Medicaid managed care and the direct care workforce; and emerging technology in employment and education. The Council will also receive reports from its standing committees; and receive public comment during four town halls, on the topics of mental health services in higher education; guardianship; challenges of the direct care workforce; and emerging technology.

AGENDA: The times provided below are approximations for when each agenda item is anticipated to be discussed (all times Eastern):

Thursday, February 11

9:00-9:15 a.m.—Call to Order, Welcome and Introductions

9:15-9:30 a.m.—Opening Remarks by Dr. Gary Siperstein

9:30-10:15 a.m.—Mental Health Services in Higher Education Panel

10:15-10:45 a.m.—Town Hall to Receive Comments on Mental Health Services in Higher Education

10:45-11:00 a.m.—Break

11:00-12:45 a.m.—Guardianship and Supported Decision-Making Panel

11:45 a.m.-12:15 p.m.—Town Hall to Receive Comments on Guardianship and Supported Decision-Making Panel

12:15-1:00 p.m.—Break, Pick up boxed lunches for working lunch

1:00-2:00 p.m.—Council discussion on proposed framework of project on guardianship and supported decision-making

2:00-2:45 p.m.—School-to-Prison Pipeline Update Panel

2:45-3:00 p.m.—Break

3:00-4:00 p.m.—Medicaid Managed Care and Challenges for the Direct Care Workforce Panel

4:00-4:30 p.m.—Town Hall to Receive Comments on Direct Care Workforce Challenges

4:30 p.m.-Adjourn

Friday, February 12

8:30-9:30 a.m.—Emerging Technology in Employment and Education Panel

9:30-10:00 a.m.—Town Hall to Receive Comments on Emerging Technology

10:00-10:15 a.m.—Break

10:15-11:00 a.m.—Council Discussion on Emerging Technology Focus Area

11:00-11:45 a.m.—NCD Business Meeting

11:45 a.m.-12:15 p.m.—Old and New Business

12:15 p.m.-Adjournment

PUBLIC COMMENT: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, February 10, 2016. Priority will be given to those individuals who are in-person to provide their comments during the town hall portions of the agenda. Those commenters on the phone will be called on according to the list of those registered via email. Due to time constraints, NCD asks all commenters to limit their comments to three minutes. Comments received at the February quarterly meeting will be limited to those regarding mental health services in higher education; guardianship and supported decision-making; challenges to the direct care workforce; and emerging technology, each during its respective slot of time for the themed town hall as previously noted in the agenda.

CONTACT PERSON: Anne Sommers, NCD, 1331 F Street NW., Suite 850, Washington, DC 20004; 202-272-2004 (V), 202-272-2074 (TTY).

ACCOMMODATIONS: A CART streamtext link has been arranged for this teleconference meeting. The web link to access CART on Thursday, February 11, 2016 is: http://www.streamtext.net/text.aspx?event=021116ncd900am; and on Friday, February 12, 2016 is: http://www.streamtext.net/text.aspx?event=021216ncd830am.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

Dated: January 21, 2016.
Rebecca Cokley,
Executive Director.

[FR Doc. 2016-01522 Filed 1-22-16; 11:15 am]

BILLING CODE 8421-03-P